DEPARTMENT OF HOMELAND SECURITY

Coast Guard

[CGD14-05-001]

Implementation of Sector Honolulu

AGENCY: Coast Guard, DHS.

ACTION: Notice of organizational change.

SUMMARY: The Coast Guard announces the establishment of Sector Honolulu. Sector Honolulu is an internal reorganization that combines Group Honolulu and Marine Safety Office Honolulu into a single command. The Coast Guard has established a continuity of operations whereby all previous practices and procedures will remain in effect until superseded by an authorized Coast Guard official or document.

DATES: The organizational changes described in this notice became effective July 16, 2004.

ADDRESSES: Documents indicated in this preamble as being available in the docket are part of docket CGD14-05-001 and are available for inspection or copying at Commander (dl), Fourteenth Coast Guard District, PJKK Federal Building, 300 Ala Moana Boulevard, Room 9-216, Honolulu, Hawaii, between 8 a.m. and 4 p.m., Monday through Friday, except Federal holidays.

FOR FURTHER INFORMATION CONTACT: Mr. Terry Rice, Fourteenth District Prevention Division, at (808) 541-2114.

SUPPLEMENTARY INFORMATION:

Discussion of Notice

Sector Honolulu is located at 400 Sand Island Parkway, Honolulu, HI 96819 and contains a single Command Center. Sector Honolulu is composed of a Response Department, Prevention Department, and Logistics Department. Effective July 16, 2004, all existing missions and functions performed by Group Honolulu and Marine Safety Office Honolulu were consolidated and are now performed by Sector Honolulu. Group Honolulu and Marine Safety Office Honolulu no longer exist as organizational entities.

Sector Honolulu is responsible for all Coast Guard Missions in the same zone as the one described in 33 CFR part 3, subpart 3.70-10(b). The Sector Honolulu Commander is vested with all the rights, responsibilities, duties, and authority of a Group Commander and Commanding Officer, Marine Safety Office, as provided in Coast Guard regulations, and is the successor in command to the Commanding Officers of Group Honolulu and Marine Safety Office Honolulu. The Sector Honolulu Commander is designated: (a) Captain of the Port (COTP) for the Honolulu COTP zone; (b) Federal Maritime Security Coordinator (FMSC) for the Honolulu COTP zone; (c) Federal On Scene Coordinator (FOSC) for the Honolulu COTP zone, consistent with the National Contingency Plan; (d) Officer in Charge of Marine Inspection (OCMI) for the Honolulu Marine Inspection Zone; and (e) Search and Rescue Mission Coordinator (SMC) for the Sector Honolulu area of responsibility, which is described above. The Deputy Sector Commander is designated alternate COTP, FMSC, FOSC, SMC, and OCMI. A continuity of operations order has been issued ensuring that all previous Group Honolulu and Marine Safety Office Honolulu practices and procedures will remain in effect until superseded by Commander, Sector Honolulu. This continuity of operations order addresses existing COTP regulations, orders, directives, and policies.

The following information is a list of updated command titles, addresses and points of contact to facilitate requests from the public and assist with entry into security or safety zones:

Name: Sector Honolulu.

Address: Commander, U.S. Coast Guard Sector Honolulu, 400 Sand Island Parkway, Honolulu, HI 96819.

Contact Information: The general phone number for the Sector is (808) 842-2640. The following are specific points of contacts and their phone numbers—

Deputy Sector Commander: (808) 842-2640;

Chief, Prevention Department: (808) 522-8264;

Chief, Response Department: (808) 842-2661;

Chief, Logistics Department: (808) 522-8252;

Contingency Planning and Force Readiness Staff: (808) 842-2686;

Sector Command Center: (808) 842-2600.

Dated: November 3, 2005.
P.F. Zukunft,
Captain, U.S. Coast Guard, Acting Commander, Fourteenth Coast Guard District.

[FR Doc. 05-22823 Filed 11-17-05; 8:45 am]

BILLING CODE 4910-15-P